DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed new information collection. In accordance with the Paperwork Reduction Act of 1995, this notice seeks comments concerning the FEMA Public Assistance (PA) Program Evaluation and Customer Satisfaction Survey results to measure program performance.

SUPPLEMENTARY INFORMATION: Executive Order 12862 requires that all Federal agencies survey their customers to determine the kind and quality of services they want and their level of satisfaction with existing services. The Government Performance and Results Act (GPRA) requires agencies to set missions and goals, and measure performance against them. FEMA will fulfill these requirements by collecting customer satisfaction with service and program evaluation information through administration of surveys of the Disaster Assistance Directorate (DAD) external customers.

Collection of Information

Title: FEMA PA Program Evaluation and Customer Satisfaction Survey.

Type of Information Collection: New.

OMB Number: 1660-NW32.

Form Number: FF 90-152.

Abstract: The purpose of the FEMA PA Program Evaluation and Customer Satisfaction Survey is to measure program performance against standards for performance and customer service, measure achievement of GPRA objectivities and generally gauge and make improvements to disaster services that increase customer satisfaction and program effectiveness.

Affected Public: Business or other for-profit; Not-for-profit institutions; Farms; Federal Government; and State, local or tribal governments.

Estimated Total Annual Time Burden: 1,920 hours.

Annual Time Burden
Project/activity (survey, form(s), focus group, worksheet, etc.) | Number of respondents | Frequency of responses | Hour burden per response (hours) | Annual responses | Total annual hour burden (hours)
| (A) | (B) | (C) | (D) = (A×B) | (E) = (C×D)
PA Survey | 3,200 | 1 | 0.3 | 3,200 | 960
PA Focus Groups | 80 | 1 | 12.0 | 80 | 960
Total | 3,280 |  |  | 3,280 | 1,920

Estimated Cost: There is no expected cost to the respondents.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before July 16, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact Marie O. Randle, Emergency Management Specialist, DAD-PCP, 202-646-3649 for additional information. You may contact the Records Management Branch for copies of the proposed collection of information at facsimile number (202) 646-3347 or email address: FEMA-Information-Collections@dhs.gov.

Dated: May 3, 2007.
John A. Sharetts-Sullivan,
Chief, Records Management and Privacy Information Resources Management Branch, Information Technology Services Division, Federal Emergency Management Agency, Department of Homeland Security.

[FR Doc. E7-9265 Filed 5-14-07; 8:45 am]

BILLING CODE 9110-23-P